ENVIRONMENTAL PROTECTION AGENCY

[FRL-7079-2]

Gulf of Mexico Program Citizens Advisory Committee Meeting

AGENCY: Environmental Protection Agency (EPA).

ACTION: Notice of meeting.

SUMMARY: Under the Federal Advisory Act, Public Law 92463, EPA gives notice of a Meeting of the Gulf of Mexico Program (GMP) Citizens Advisory Committee.

DATES: The Meeting will be held on Wednesday, November 7, 2001, from 1 p.m. to 5:30 p.m. and on Thursday, November 8, 2001, from 8:30 a.m. to 3:30 p.m.

ADDRESSES: The meetings will be held at the Holiday Inn, 404 Highway 90, Waveland, Mississippi. (601-467-9261).

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: Election of Officers, Dockwatch and Jellyfish update, presentation on Business and Industry involvement in citizen activities, presentations on Gulf of Mexico Program priority areas, and FY 2003 Goals and Measures discussion.

The meeting is open to the public.

Dated: October 3, 2001.
Gloria D. Car,
Designated Federal Officer.

[FR Doc. 01-25590 Filed 10-10-01; 8:45 am]

BILLING CODE 6560-50-P